DEPARTMENT OF HEALTH AND HUMAN SERVICES

National Institutes of Health

National Institute of Child Health and Human Development; Amended Notice of Meeting

Notice is hereby given of a change in the meeting of the National Institute of Child Health and Human Development Special Emphasis Panel, October 10, 2001, 1:00 pm to October 10, 2001, 2:30 pm, 6100 Executive Blvd., Room 5E01, Rockville, MD 20852 which was published in the Federal Register on August 30, 2001, 66 FR 45861.

The meeting will be held on 10/11/2001 at 1:00 p.m. The meeting is closed to the public.

Dated: September 27, 2001.
LaVerne Y. Stringfield,
Director, Office of Federal Advisory Committee Policy.

[FR Doc. 01-24844 Filed 10-3-01; 8:45 am]

BILLING CODE 4140-01-M